DEPARTMENT OF TRANSPORTATION

Maritime Administration

46 CFR Part 221

[Docket No. MARAD-2001-10256]

RIN 2133-AB44

Denial of Vessel Transfer to Foreign Registry Upon Revocation of Fishery Endorsement

AGENCY: Maritime Administration, Transportation.

ACTION: Notice of proposed rulemaking (NPRM).

SUMMARY: The Maritime Administration (MARAD, we, our, or us) is proposing regulations to amend 46 CFR 221.15 to state that approvals will not be granted for the transfer of a Fishing Vessel, Fish Processing Vessel, or Fish Tender Vessel to a foreign registry or operation under authority of a foreign country when the vessel's fishery endorsement has been revoked as a result of the fishing capacity reduction program for crab fisheries established by the Secretary of Commerce. Pub. L. 106-554 requires that the Secretary of Transportation shall refuse to grant the approval required under section 9(c)(2) of the Shipping Act of 1916 for the placement of a Fishing Vessel, Fish Processing Vessel, or Fish Tender Vessel under foreign registry or the operation of such vessel under the authority of a foreign country when the vessel's fishery endorsement has been revoked under the Secretary of Commerce's fishing capacity reduction program. The intended effect of this rulemaking is to clearly state in the regulation that approvals required under section 9(c)(2) of the1916 Act will not be granted in the circumstances described.

DATES: You should submit your comments early enough to ensure that Docket Management receives them not later than October 2, 2001.

ADDRESSES: Your comments should refer to docket number [MARAD-2001-10256]. You may submit your comments in writing to: Docket Clerk, U.S. DOT Dockets, Room PL-401, 400 7th St., SW, Washington, DC 20590. You may also submit them electronically via the In-ternet at http://dmses.dot.gov/submit/. You may call Docket Management at (202) 366-9324 and visit the Docket Room from 10 a.m. to 5 p.m., EST., Monday through Friday, except Federal Holidays. An electronic version of this document is available on the World Wide Web at http://dms.dot.gov.

FOR FURTHER INFORMATION CONTACT: Edmund T. Sommer, Jr., Chief, Division of General and International Law at (202) 366-5181. You may send mail to Mr. Sommer at Maritime Administration, Office of Chief Counsel, Room 7221, 400 Seventh Street, SW, Washington, DC 20590.

SUPPLEMENTARY INFORMATION:

Comments

How Do I Prepare and Submit Comments?

Your comments must be written and in English. To ensure that your comments are correctly filed in the Docket, please include the docket number of this document in your comments. We encourage you to write your primary comments in a concise fashion. However, you may attach necessary additional documents to your comments. There is no limit on the length of the attachments. Please submit two copies of your comments, including the attachments, to Docket Management at the address given above under ADDRESSES.

How Can I Be Sure That My Comments Were Received?

If you wish Docket Management to notify you upon its receipt of your comments, enclose a self-addressed, stamped postcard in the envelope containing your comments. Docket Management will return the postcard by mail.

How Do I Submit Confidential Business Information?

If you wish to submit any information under a claim of confidentiality, you should submit three copies of your complete submission, including the information you claim to be confidential business information, to the Chief Counsel, Maritime Administration, at the address given above under FOR FURTHER INFORMATION CONTACT. You should mark “CONFIDENTIAL” on each page of the original document that you would like to keep confidential. In addition, you should submit two copies, from which you have deleted the claimed confidential business information, to Docket Management at the address given above under ADDRESSES. When you send comments containing information claimed to be confidential business information, you should include a cover letter setting forth with specificity the basis for any such claim.

Will the Agency Consider Late Comments?

We will consider all comments that Docket Management receives before the close of business on the comment closing date indicated above under DATES. To the extent possible, we will also consider comments that Docket Management receives after that date.

How Can I Read the Comments Submitted By Other People?

You may read the comments received by Docket Management at the address given above under ADDRESSES. The hours of the Docket Room are indicated above in the same location. You may also see the comments on the Internet. To read the comments on the Internet, take the following steps: Go to the Docket Management System (DMS) Web page of the Department of Transportation (http://dms.dot.gov/). On that page, click on “search.” On the next page (http://dms.dot.gov/search/), type in the five-docket number shown at the beginning of this document. The docket number for this document is [10256]. After typing the docket number, click on “search.” On the next page, which contains docket summary information for the docket you selected, click on the desired comments. You may download the comments. Please note that even after the comment closing date, we will continue to file relevant information in the Docket as it becomes available. Further, some people may submit late comments. Accordingly, we recommend that you periodically check the Docket for new material.

Background

Pub. L. 106-554 requires the Secretary of Commerce to implement a fishing reduction program for crab fisheries included in the Fishery Management Plan for Commercial King and Tanner Crab Fisheries in the Bering Sea and Aleutian Islands. The Secretary of Commerce must notify the Secretary of Transportation which vessels are being removed from the fishery and request that the Secretary of Transportation revoke the vessel's fishery endorsement and refuse permission to transfer the vessel to a foreign flag.

Section 9 of the Shipping Act, 1916, as amended, (46 App. U.S.C. 808) governs the transfer of any documented vessel, or any vessel the last documentation of which was under the laws of the United States, to a foreign registry or operation of that vessel under the authority of a foreign country. This rulemaking proposes to amend the general approval granted under 46 CFR 221.15. We propose to amend § 221.15 to state that approval to place under foreign registry or to operate under the authority of a foreign country a Fishing Vessel, Fish Processing Vessel, or Fish Tender Vessel that has had its fishery endorsement revoked pursuant to Appendix D of PL 106-554, 114 Stat 2763 will not be granted.

Plain Language

Executive Order 12866 requires each agency to write all rules in plain language. The Department of Transportation and MARAD are committed to plain language in government writing; therefore, we have written this NPRM in plain language. Our goal is to provide a clear regulation. We invite your comments on how to make this proposed rule easier to understand.

Rulemaking Analyses and Notices

Executive Order 12866 and DOT Regulatory Policies and Procedures

We have reviewed this notice of proposed rulemaking under Executive Order 12866 and have determined that this is not a significant regulatory action. Additionally, this NPRM is not likely to result in an annual effect on the economy of $100 million or more. The purpose of this NPRM is to ensure that Fishing Vessels, Fish Processing Vessels, or Fish Tender Vessels who lose their fishery endorsement in the Fishery Management Plan for Commercial King and Tanner Crab Fisheries in the Bering Sea and Aleutian Islands will not operate under foreign flag or under the authority of a foreign country.

This NPRM is also not significant under the Regulatory Policies and Procedures of the Department of Transportation (44 FR 11034; February 26, 1979). The costs and benefits associated with this rulemaking are considered to be so minimal that no further analysis is necessary. Because the economic impact, if any, should be minimal, further regulatory evaluation is not necessary.

Regulatory Flexibility Act

This NPRM will not have a significant economic impact on a substantial number of small entities. This NPRM only implements a statutory mandate to deny approval for a transfer of a vessel to a foreign registry or operation under authority of a foreign country when the vessel's fishery endorsement has been revoked. This rule does not impose a significant economic impact because owners of Fishing Vessels, Fish Processing Vessels, or Fish Tender Vessels who lose their fishery endorsement have been compensated through the crab fisheries buy-out program.

Therefore, we certify that this NPRM will not have a significant economic impact on a substantial number of small entities.

Federalism

We have analyzed this final rule in accordance with the principles and criteria contained in E.O. 13132 (“Federalism”) and have determined that it does not have sufficient federalism implications to warrant the preparation of a federalism summary impact statement. These regulations have no substantial effects on the States, or on the current Federal-State relationship, or on the current distribution of power and responsibilities among the various local officials. Therefore, consultation with State and local officials was not necessary.

Environmental Impact Statement

We have analyzed this NPRM for purposes of compliance with the National Environmental Policy Act of 1969 (42 U.S.C. 4321 et seq.) and have concluded that under the categorical exclusions provision in section 4.05 of Maritime Administrative Order (“MAO”) 600-1, Procedures for Considering Environmental Impacts, 50 FR 11606 (March 22, 1985), the preparation of an Environmental Assessment, and an Environmental Impact Statement, or a Finding of No Significant Impact for this NPRM is not required.

Executive Order 13175

MARAD does not believe that this NPRM will significantly or uniquely affect the communities of Indian tribal governments when analyzed under the principles and criteria contained in Executive Order 13175 (“Consultation and Coordination with Indian Tribal Governments”). Therefore, the funding and consultation requirements of this Executive Order do not apply.

Unfunded Mandates Reform Act of 1995

This NPRM does not impose an unfunded mandate under the Unfunded Mandates Reform Act of 1995. It does not result in costs of $100 million or more, in the aggregate, to any of the following: State, local, or Native American tribal governments, or the private sector. This NPRM is the least burdensome alternative that achieves the objective of the rule.

Paperwork Reduction Act

This NPRM does not contain information collection requirements.

Regulation Identifier Number (RIN)

The Department of Transportation assigns a regulation identifier number (RIN) to each regulatory action listed in the Unified Agenda of Federal Regulations. The Regulatory Information Service Center publishes the Unified Agenda in April and October of each year. The RIN number is contained in the heading of this document to cross-reference this action with the Unified Agenda.

List of Subjects in 46 CFR Part 221

Administrative practice and procedure, Maritime carriers, Mortgages, Penalties, Reporting and recordkeeping requirements, Uniform system of accounts, Trusts and trustees.

Accordingly, MARAD proposes to amend 46 CFR part 221 to read as follows:

PART 221—REGULATED TRANSACTIONS INVOLVING DOCUMENTED VESSELS AND OTHER MARITIME INTERESTS

1. The authority citation for part 221 continues to read as follows: : 46 App. U.S.C. 802, 803, 808, 835, 839, 841a, 1114(b), 1195; 46 U.S.C. chs. 301 and 313; 49 U.S.C. 336; 49 CFR 1.66.

2. Section 221.15 is amended by adding an introductory paragraph to read as follows:

§ 221.15 Approval for transfer of registry or operation under authority of a foreign country or for scrapping in a foreign country.

In no case will approval be granted to place under foreign registry or to operate under the authority of a foreign country a Fishing Vessel, Fish Processing Vessel, or Fish Tender Vessel that has had its fishery endorsement revoked pursuant to Appendix D of Public Law 106-554, 114 Stat 2763. Subject to this exclusion, approval requests will be considered as set forth in this section:

* * * * *

Dated: July 27, 2001.
By Order of the Acting Deputy Maritime Administrator.
Murray A. Bloom,
Acting Secretary, Maritime Administration.

[FR Doc. 01-19195 Filed 8-2-01; 8:45 am]

BILLING CODE 4910-81-P